DEPARTMENT OF TRANSPORTATION

Pipeline and Hazardous Materials Safety Administration

Pipeline Safety: Submission of Public Awareness Programs

AGENCY: Pipeline and Hazardous Materials Safety Administration (PHMSA), Department of Transportation.

ACTION: Notice; Issuance of Advisory Bulletin.

SUMMARY: This document tells certain pipeline operators how to submit their written public awareness programs for review. Regulations issued in 2005 provide details about the content of the programs and establish completion dates. The 2002 amendment to the pipeline safety law requires pipeline operators to submit these programs for review and PHMSA has a clearinghouse approach for reviewing interstate and many intrastate operators. This document ensures operators know where and when to submit their programs.

FOR FURTHER INFORMATION CONTACT: Blaine Keener by phone at (202) 366-0970, or by e-mail at blaine.keener@dot.gov.

SUPPLEMENTARY INFORMATION:

I. Background

The Pipeline Safety Improvement Act of 2002 amended 49 U.S.C. 60116 to require pipeline operators to evaluate and update their existing public education programs and to submit the updated programs to PHMSA or the State pipeline safety agency that regulates the intrastate pipelines in the State. PHMSA issued a final rule on May 19, 2005 (70 FR 28833) delineating what the updated programs, now called public awareness programs, must contain. You can find the final rule in the pipeline safety code at 49 CFR 192.616 and 49 CFR 195.440. The final rule requires most operators to develop public awareness programs by June 20, 2006 and to submit the programs for review upon request. There is an extended compliance time for certain very small petroleum gas and master meter operators. An operator distributing petroleum gas to fewer than 25 customers or distributing gas through a master meter to fewer than 25 customers has until June 20, 2007 to prepare a program. In addition, PHMSA is reconsidering the public awareness requirements applicable to all master meter operators and operators distributing petroleum gas by pipeline as a secondary business. We intend to initiate rulemaking in the near future to extend the date for compliance and provide alternative public awareness programs for these master meter and petroleum gas operators.

This advisory bulletin provides guidance to operators of pipelines (other than operators distributing gas through master meters or distributing petroleum gas by pipeline as an incidental part of business) about submitting public awareness programs for initial review.

PHMSA has decided to have a team review written public awareness programs of interstate operators centrally instead of through the pipeline safety inspection staff located in its five regions. PHMSA has offered, and most State agencies have elected, to have this team review public awareness programs of intrastate operators. The work of the Public Awareness Program Clearinghouse review team is guided by review criteria developed by pipeline safety staff from PHMSA and State pipeline safety agencies. The review team will compare programs with American Petroleum Institute Recommended Practice 1162 (RP 1162), on which the public awareness regulation is based. If the review team finds deviation from the baseline elements, the review team will refer the issue to the applicable PHMSA regional office or State pipeline safety agency. In addition to the baseline elements, RP 1162 contains supplemental program elements to enhance pipeline safety awareness in areas where operators determine increased risk. The review team will document operator use of supplemental elements to identify trends and foster improvements.

There are exceptions to the centralized review process. The State pipeline safety agencies in Connecticut, the District of Columbia, Illinois, Maryland, Montana, South Dakota, Virginia, and Wyoming have decided to conduct independent reviews of the public awareness programs of at least some intrastate operators. Unless otherwise directed by the State pipeline safety agency, an operator described below submits its program to the address provided by October 8, 2006:

A gas distribution operator in Connecticut:Mr. Philip Sher, Supervisor of Technical Analysis, Connecticut Department of Public Utility Control,10 Franklin Square,New Britain, CT 06051.

A gas distribution pipeline operator in the District of Columbia: Ms. Delvone Nicholson-Meade, Program Manager, Pipeline Safety, District of Columbia Public Service Commission,1333 H Street, NW., Suite 700 East Tower,Washington, DC 20005.

A gas distribution pipeline operator serving less than 20,000 customers in Illinois: Mr. Rex Evans, Manager, Pipeline Safety, Illinois Commerce Commission,527 E Capitol Avenue,Springfield, IL 62701.

An intrastate pipeline operator in Maryland: Mr. John Clementson, Assistant Chief Engineer, Maryland Public Service Commission,6 Saint Paul Street,Baltimore, MD 21202-6806.

An intrastate gas pipeline operator in Montana:Mr. G. Joel Tierney, Utility Engineering Sp./Pipeline Safety Program Manager,Montana Public Service Commission,1701 Prospect Avenue,P.O. Box 202601,Helena, MT 59620-2601.

In South Dakota:

• A gas distribution pipeline operator serving less than 20,000 customers, or

• An intrastate gas transmission pipeline operator:

Mr. Martin Bettmann, Pipeline Safety Program Manager, South Dakota Public Utilities Commission,500 East Capitol Avenue,Pierre, SD 57501-5070.

In Virginia:

• A privately-owned gas distribution pipeline operator,

• An intrastate gas transmission operators; or

• An intrastate hazardous liquid pipeline operator:

Mr. Massoud Tahamtani, Director, Division of Utility and Railroad Safety, Virginia State Corporation Commission,Tyler Building,P.O. Box 1197,Richmond, VA 23218.

An intrastate gas pipeline operator in Wyoming: Mr. David W. Piroutek, Engineering Supervisor, Wyoming Public Service Commission,2515 Warren Ave, Suite 300,Cheyenne, WY 82002-0230.

II. Advisory Bulletin ADB-06-02

To: Owners and Operators of Gas and Hazardous Liquid Pipelines Required to Complete Written Public Awareness Programs by June 20, 2006.

Subject: Submission of Public Awareness Programs for Review.

Purpose: The purpose is two-fold:

(1) To inform persons distributing gas through a master meter and persons who distribute petroleum gas by pipeline as an incidental part of their business of PHMSA's intention to modify the requirements for public awareness programs applicable to them; and

(2) To inform other operators, who are required to develop public awareness programs satisfying the requirements of 49 CFR 192.616 or 49 CFR 195.440 by June 20, 2006, how to submit the written programs for review.

Advisory

Operators of Master Meter Systems and Some Petroleum Gas Systems

If you distribute gas through a master meter or if you distribute petroleum gas by pipeline as an incidental part of your primary business, do not submit a written public awareness program to the Public Awareness Program Clearinghouse for review at this time. PHMSA intends to initiate a rulemaking in the near future to change the requirements for public awareness programs applicable to you.

Other Intrastate Operators in Certain States

If you operate an intrastate pipeline (other than a master meter or petroleum gas system described in (1)), you have to develop a public awareness program by June 20, 2006 and submit the written program for review.

The State pipeline safety agencies in Connecticut, the District of Columbia, Illinois, Maryland, Montana, South Dakota, Virginia, and Wyoming have decided to conduct reviews independent of the Public Awareness Program Clearinghouse. Consult the preamble to this advisory for more information about which intrastate operators in these jurisdictions need to submit programs to the State agency. If you are in one of these categories, unless the State pipeline safety agency advises you differently, please submit your written public awareness programs to the addressee for the State agency listed in the preamble by October 8, 2006.

All Other Operators

If you operate:

• An interstate gas pipeline;

• An interstate hazardous liquid pipeline; and

• An intrastate pipeline not filing with a State pipeline safety agency as described above, please submit your written public awareness program to PHMSA's Public Awareness Program Clearinghouse between August 8, 2006 and October 8, 2006.

How to Submit to the Public Awareness Program Clearinghouse

General requirements: In order for PHMSA to accurately identify the pipeline operator submitting a public awareness program, an operator needs to use an Operator Identification Number (Op ID) when submitting its public awareness program. If you do not have one, request it at http://opsweb.rspa.dot.gov/cfdocs/opsapps/pipes/main.cfm. In some cases, a single public awareness program may cover several pipelines with different Op IDs. For each pipeline covered by a public awareness program, you need to provide basic information about the pipeline when you submit your written public awareness program:

a. The Op ID and name of the operator.

b. A person to contact, with e-mail and telephone number.

c. The type or types of pipeline covered by the same Op ID.

• Gathering (gas or hazardous liquid)

• Petroleum gas distribution

• Natural gas distribution, municipally-owned

• Natural gas distribution, privately-owned

• Gas distribution, other

• Gas transmission, intrastate

• Gas transmission, interstate

• Hazardous liquid, intrastate

• Hazardous liquid, interstate

d. For each type of intrastate pipeline, the State or States in which the pipeline is located.

e. For each type of interstate pipeline, the PHMSA region or regions in which the pipeline is located.

E-filing: PHMSA strongly encourages operators to submit public awareness programs through the Internet. We are modifying the Online Data Entry System (ODES) to accept public awareness programs. For operators unfamiliar with ODES, the system currently allows an operator to submit various reports required by pipeline safety regulations. In order to ensure the integrity of data submitted to ODES, an operator needs an Op ID and PIN. If you do not have a PIN, you may request it at the Web site above. Using ODES reduces the potential for human error and increases the efficiency of the process.

On August 8, 2006, the Web site above will have a prominent link for submitting public awareness programs. The ODES user enters the Op ID and PIN. The link then transfers the user to the program submittal page. On this page, the ODES user provides basic information about the pipeline to allow the review team of the Public Awareness Program Clearinghouse to properly evaluate the program, communicate with the State pipeline safety agency or PHMSA regional office with inspection responsibility for the pipeline, and generate summary reports. The ODES user may enter multiple Op IDs when a single public awareness program covers pipelines operated by more than one operator.

After entering the basic information, the ODES user uploads the file, or files, comprising the public awareness program. Adobe Acrobat format is preferred, but PHMSA can accept files created in any commercially available word processor or spreadsheet.

Alternative to e-filing: In lieu of e-filing, an operator may mail a computer disk containing its public awareness program, and the basic information about the pipeline described above, to the following address:Public Awareness Program Clearinghouse, PHMSA, 400 7th, Street, SW., Room 2103,Washington, DC 20590.

Finally, an operator may also submit the same information in paper form to the same address.

Issued in Washington, DC on June 9, 2006.
Stacey Gerard,
Acting Assistant Administrator/Chief Safety Officer for Pipeline Safety.

[FR Doc. E6-9400 Filed 6-15-06; 8:45 am]

BILLING CODE 4910-60-P